DEPARTMENT OF AGRICULTURE

Office of the Secretary

Notice Inviting Applications for Designation of Rural Empowerment Zones

AGENCY: Office of the Secretary, USDA.

ACTION: Notice inviting applications.

SUMMARY: This Notice invites applications from state and local governments, Indian tribal governments, regional planning agencies, non-profit organizations, community-based organizations, or other locally-based organizations on behalf of rural areas nominated for designation as Empowerment Zones (EZ) as this term is defined in this Notice and title 7 Code of Federal Regulations part 25 (7 CFR part 25). An application may be prepared and submitted by any one of a broad range of entities; however, the rural area in question must be nominated for designation by the State, local or Indian tribal government having jurisdiction over the nominated area. Title 7 part 25 provides guidance which is supplemental to that provided in this Notice and which is necessary for completion and submission of applications.

ADDRESSES: Application materials may be obtained from U.S. Department of Agriculture (USDA) Rural Development offices listed in appendix A to this Notice or by sending an Internet Mail message to “round3.rural@ocdx.usda.gov”.

FOR FURTHER INFORMATION CONTACT: Deputy Administrator, USDA Office of Community Development, Reporters Building, 300 7th Street, SW, Room 266, Washington, DC 20024-3203, telephone 1-800-645-4712, or send an Internet e-mail message to “round3.rural@ocdx.usda.gov.” Information may also be obtained at “http://www.ezec.gov/round3”.

SUPPLEMENTARY INFORMATION:

Paperwork Reduction Act

The information collection requirements contained in this Notice have been approved by the Office of Management and Budget under OMB Control Number 0570-0027.

I. Background

The Empowerment Zone program represents a holistic approach to the problems of distressed rural and urban communities. It emphasizes a bottom-up community based strategy rather than the traditional top-down bureaucratic approach. It is a strategy to address economic, human, community, physical development problems and opportunities in a comprehensive fashion.

The Community Renewal Tax Relief Act of 2000 (Public Law 106-554) authorized the Secretary of the U.S. Department of Agriculture (Secretary) to designate up to two Empowerment Zones (“Round III”) in addition to those rural empowerment zones and enterprise communities designated earlier.

This Notice invites applications from State and local governments, Indian tribal governments, regional planning agencies, non-profit organizations, community-based organizations, or other locally-based organizations on behalf of rural areas nominated for designation as Empowerment Zones in this third round.

Applications submitted for designation as a Round III Rural Empowerment Zone may also be considered, and used as the sole basis for designation, for any additional Enterprise Communities or other special community designations authorized by Congress prior to the date by which designations of Round III Empowerment Zones are required to be made.

The program is intended to combine the resources of the Federal Government with those of State and local governments, educational institutions and the private and non-profit sectors to implement community-developed strategic plans for community and economic development. The Federal Government has taken steps to coordinate Federal assistance in support of the Empowerment Zones, including expedited processing and priority funding.

II. Eligibility

The authorizing legislation specifies certain criteria that must be satisfied in order for an area to be eligible for Empowerment Zone designation, including population, general distress, geographic size and boundary configuration, and poverty rate by census tract (or by block numbering areas when the community is not delineated by census tracts; nominated areas in Alaska and Hawaii have the option of qualifying by block groups). The details of these requirements are described in 7 CFR part 25 of the Federal Register. Unless specified otherwise, the terms used in this Notice, inclusive of the appendices, shall be defined as contained in 7 CFR part 25.

USDA will accept certifications of the data by the State and local governments, subject to further verification of the data prior to designation as an Empowerment Zone.

III. Designation Factors

The statute specifies three factors to be considered by the Secretary in designating Empowerment Zones: (1) The effectiveness of the strategic plan; (2) the effectiveness of the assurances provided in support of the strategic plan; and (3) other criteria to be specified by the Secretary. Each of these factors is discussed in greater detail in 7 CFR part 25. The required form and content of the application and the strategic plan are elaborated upon in this Notice.

IV. Timing and Location of Application Submissions

Application materials may be obtained from USDA Rural Development offices listed in Appendix A of this Notice or by sending an Internet e-mail message to: “round3.rural@ocdx.usda.gov”. They are also available at the following website: “http://www.ezec.gov/round3”. The deadline for receipt of the complete application is 5 p.m. Eastern Time, Monday, October 1, 2001. Applications received after that time will not be accepted, and will be returned to the sender. Since applications require certifications from the State and local governments, we cannot accept applications sent by FAX or through the Internet system. Applications must be submitted on standard 8½″ × 11″ paper and contained in standard 3″ 3-ring binders. The original application and two paper copies should be sent to: U.S. Department of Agriculture, Office of Community Development, Reporters Building, 300 7th Street, SW, Room 266, Washington, DC 20024. No video or audio tapes, posters, display boards, or other accompanying material will be accepted as part of the Application.

Applicants will be notified in the event of an incomplete application. Provided that the application is received at the above address with sufficient time before the deadline, applicants will be given an opportunity to provide the missing information to USDA.

V. Notice of Intent To Participate

Prospective applicants are encouraged to complete and submit a Notice of Intent to Participate substantially in the form provided in appendix B to this Notice. A Notice form is included in the application materials; it may also be obtained by sending an Internet e-mail message to “round3.rural@ocdx.usda.gov”. Applicants may also submit the notice via the Internet by filling out the form on-line at the following website: “http://www.ezec.gov/round3”. Applicants and other participants may wish to submit the form in order to be placed on the Empowerment Zone and Enterprise Community mailing list. While the notice is not mandatory for participation in the program, USDA encourages the submission of the notice, as it will permit the Department to provide prospective applicants with updated information on program requirements as well as information on technical assistance.

VI. Application materials

A. Application materials available from USDA consist of the following:

(1) Round III application form and

(2) Round III application guide.

B. The Application to be submitted on behalf of nominated rural areas shall include the following (“Application”):

(1) A nomination package including:

(a) Round III application form parts I through IV; and

(b) The required certifications and written assurances contained in 7 CFR § 25.200(b) which are not otherwise included in part III of the Round III application form;

(2) A strategic plan which meets the requirements of 7 CFR part 25 and the form and content requirements specified in section VII of this Notice; and

(3) Maps. Attach a copy of a map that shows the 1990 census boundaries of:

(a) The local governments discussed in part I of the Application Form (Nomination);

(b) The nominated area; and

(c) Developable sites, if any.

VII. Strategic plan

A. The strategic plan to be submitted on behalf of the nominated area shall conform with the requirements contained in 7 CFR § 25.202 and § 25.204. Each major section of the strategic plan should address how the plan will achieve the four key principal objectives contained in 7 CFR § 25.202.

B. The strategic plan must be organized into two separate volumes. Each volume should prominently identify the nominated area and be organized and labeled in the following sections and specified sequence.

C. Volume I of the Strategic Plan (“Documentation”). Volume I must include the following sections and content:

(1) Section 1—Participants.

(a) Applicant and Lead entities: the name, address, description and primary contact person for the entity that will be the lead managing entity for the proposed Empowerment Zone. Clarify whether the applicant entity is different from the proposed lead managing entity; if so, provide the same information for the applicant entity;

(b) Participating entities: a list of and descriptions of the specific groups, organizations, and individuals participating in the production of the strategic plan, and descriptions of the history of these groups in the community; and

(c) An explanation of how participants in the planning process were selected and evidence that the participants, taken as a whole, are broadly representative of the entire community.

(2) Section 2—The Planning Process.

(a) Descriptions of how the participants created and developed the strategic plan;

(b) Identification of two or three topics addressed in the strategic plan that caused the most serious disagreements among participants and a description of how those disagreements were resolved; and (c) An explanation of how the community residents and key organizations participated in choosing the area to be nominated and why the area was nominated.

(3) Section 3—Eligibility.

(a) Include information not otherwise provided in the application form, or use this section if additional space is needed to provide eligibility information; and

(b) Maps and a general description of the nominated area.

(4) Section 4—Economic and Social Conditions. Detailed statistical information, including tabular and graphical information, not included in volume II, should be included in this section.

(5) Section 5—Implementation. This section should include:

(a) Descriptions of the roles which each participating entity, identified in volume I, section 1, will have in implementing the strategic plan; and

(b) Evidence that key participating entities have the capacity to implement the strategic plan.

(6) Section 6—Public Information. This section should include newspaper clippings, photographs, news releases and other materials relating to the community and its strategic planning process.

(7) Section 7—Letters of Support. Letters of support are limited to those that pledge either monetary or in-kind resources toward the implementation of the strategic plan. Letters of support may be submitted as part of the Application and should be grouped in this section of the strategic plan.

D. Volume II of the Strategic Plan (“Plan”), Part I. Volume II must contain four major subparts of which part I must include the following sections and content:

(1) Section 1—Vision and Values. The community's strategic vision for change—a statement of what the community would like to be like in the future together with a statement of the community's values which guided its planning process and which will guide its implementation of the strategic plan.

(2) Section 2—Community Assessment. A comprehensive assessment of existing conditions and trends in the nominated area in two subsections:

(a) Assessment of Problems and Opportunities. A description and assessment of problems and opportunities. This subsection must identify those baseline conditions which the community wishes to improve as a result of the strategic plan. It may include priority rankings by the community of problems and opportunities to be addressed by the strategic plan.

(b) Resource Analysis. An assessment of the resources available to the community, including financial, technical, leadership, volunteerism, skills and other community assets which may be tapped in implementing the strategic plan.

(3) Section 3—Goals. A statement of a comprehensive and holistic set of goals to be achieved through implementation of the strategic plan throughout the 10-year implementation period. This section should also include an index of topics and related benchmark activities which are incorporated in the strategic plan (education, criminal justice, economic development, housing, health care, water and sewer, etc.) so as to facilitate the sharing of information across Federal agencies such that they may more readily recognize how they may be able to support the Empowerment Zone during the implementation phase.

(4) Section 4—Strategies. A statement of the strategies the community proposes to use to achieve its strategic plan, in particular, the principal objectives of economic opportunity and sustainable community development contained in 7 CFR 25.202(a)(3) and (a)(4).

E. Volume II of the Strategic Plan (“Plan”), Part II. The second major subpart of volume II must include the following sections and content:

(1) Section 1—Phase I work plan. The information required pursuant to 7 CFR 25.403(c)(1) for the initial two years of the designation period.

(2) Section 2—Phase I operational budget. The information required pursuant to 7 CFR 25.402(c)(2) for the initial two years of the designation period.

F. Volume II of the Strategic Plan (“Plan”), Part III. The third major subpart of volume II should be titled “Continuous Quality Improvement Plan.” Part III should present the community's plan for evaluating and learning from its experiences. It should also detail the methods by which the community will assess its own performance in implementing its benchmarks and the process it will use for revising its strategic plan and benchmark goals. Part III should include the following sections and content:

(1) Section 1—Participation. The proposed procedures for assuring continuous, broad based community participation in the implementation of the strategic plan;

(2) Section 2—Incorporation of experiences. The methods proposed for incorporating learning from experience gained during implementation of the strategic plan and from information obtained from other sources into revisions of the strategic plan, benchmark goals and implementation methods and procedures;

(3) Section 3—Benchmark review. The proposed procedure for reviewing benchmark progress within the community; and

(4) Section 4—Benchmark amendment. The proposed procedure for amending and revising benchmark goals and benchmark activities.

G. Volume II of the Strategic Plan (“Plan”), Part IV. The fourth major subpart of volume II should be titled “Administration Plan”. Part IV should present the community's plan for administering the implementation of the strategic plan. It should include the following sections:

(1) Section 1—Lead entity. The name of the proposed lead entity organization, its existing and planned future legal status and authority to receive and administer funds pursuant to Federal and State and other nonprofit programs;

(2) Section 2—Capacity. Evidence, including an audited financial statement as of the most recent fiscal year, that the lead entity and other key organizations implementing the strategic plan have the capacity to implement the strategic plan. If the lead entity is not yet established, provide evidence of its proposed capitalization;

(3) Section 3—Board membership. The membership of the proposed Empowerment Zone board and the selection procedures;

(4) Section 4—Partnerships. The relationship between the Empowerment Zone board and local governments and other major regional and community organizations operating in the same geographic area;

(5) Section 5—Public information. The proposed methods by which citizens of the Empowerment Zone and partnership organizations will be kept informed about the Empowerment Zone's activities and progress in implementing the strategic plan;

(6) Section 6—Public participation. The methods and procedures by which the Empowerment Zone proposes to implement the principal objective of community based partnerships pursuant to 7 CFR 25.202(a)(2).

VIII. Counties Which Meet the Outmigration Test for Purposes of 7 CFR 25.104(b)(2)(iii)

For purposes of volume I, section 3—Eligibility, counties which meet the outmigration test for purposes of 7 CFR 25.104(b)(2)(iii) are listed in appendix C to this Notice.

IX. Round III Champion Communities

Champion Communities will be selected from those rural communities which applied for designation as an Empowerment Zone and, despite having met all requirements for selection, were not so designated. State Rural Development Directors and staff will work with Champion Communities to provide support, guidance and technical assistance in strategic planning and implementation efforts, if the Champion Community elects to execute a Memorandum of Agreement (MOA) with Rural Development. To the extent possible, preferential consideration will be given to Champion Communities when processing applications for loans and grants for Rural Development Programs.

X. Memorandum of Agreement

It is expected that a MOA will be entered into relating to each designated Round III Empowerment Zone. The MOA shall conform in all material respects to the form of MOA provided in appendix D to this Notice.

XI. Miscellaneous

Empowerment Zone designation does not constitute a Federal action for provisions of the Uniform Relocation Act. However, any activity constituting a Federal action that may result from such a designation may be subject to the provisions of this Act, as well as any other statutory or regulatory provisions governing the particular Federal action.

All designation reviews will be conducted in compliance with Federal civil rights laws.

Dated: May 25, 2001.
Ann M. Veneman,
Secretary.

List of Appendices

A—Rural Development State EZ-EC State Contacts

B—Notice of Intent To Participate

C—Counties Which Meet the Outmigration Test

D—Form of Memorandum of Agreement

Appendix A: EZ/EC State Contacts

Alabama

State Director, Rural Development, Sterling Center, 4121 Carmichael Road/Suite 601, Montgomery, AL 36106-3683, phone: 334-279-3400, fax: 334-279-3403.

Alaska

State Director, Rural Development, 800 W. Evergreen, Suite 201, Palmer, AK 99645-6539, phone: 907-761-7700, fax: 907-761-7783.

Arizona

State Director, Rural Development, Phoenix Corporate Center, 3003 North Central Avenue, Suite 900, Phoenix, AZ 85012-2906, phone: 602-280-8707, fax: 602-808-8770.

Arkansas

State Director, Rural Development, 700 W Capitol Avenue, Room 3416, Little Rock, AR 72201-3225, phone: 501-301-3200, fax: 501-301-3278.

California

State Director, Rural Development, 430 G. Street, #4169, Davis, CA 95616-4169, phone: 530-792-5800, fax: 530-792-5837.

Colorado

State Director, Rural Development, 655 Parfet Street, Room E-100, Lakewood, CO 80215, phone: 303-236-2801 Ext. 134, fax: 303-236-2854.

Delaware/Maryland

State Director, Rural Development, 5201 South Dupont Highway, P.O. Box 400, Camden, DE 19934, phone: 302-697-4304, fax: 302-697-4390.

Florida/Virgin Islands

State Director, Rural Development, 4440 N.W. 25th Pl., P.O. Box 147010, Gainesville, FL 32614-7010, phone: 352-338-3402, fax: 352-338-3405.

Georgia

State Director, Rural Development, 355 E. Hancock Ave., Athens, GA 30601-2768, phone: 706-546-2162, fax: 706-546-2152.

Hawaii

State Director, Rural Development, Federal Building, Room 311, 154 Waianuenue Ave, Hilo, HI 96720, phone: 808-933-8302, fax: 808-933-8325.

Idaho

State Director, Rural Development, 9173 West Barms, Suite A1, Boise, ID 83709, phone: 208-378-5615, fax: 208-378-5643.

Illinois

State Director, Rural Development, Illini Plaza, Suite 103, 1817 South Neil Street, Champaign, IL 61820, phone: 217-398-5235, fax: 217-398-5337.

Indiana

State Director, Rural Development, 5975 Lakeside Blvd., Indianapolis, IN 46278, phone: 317-290-3100 ext. 400, fax: 317-290-3095.

Iowa

State Director, Rural Development, 210 Walnut Street, Federal Bldg./Room 873, Des Moines IA 50309, phone: 515-284-4663, fax: 515-284-4859.

Kansas

State Director, P.O. Box 4653, 1201 SW Executive Drive, Topeka, KS 66604, phone: 785-271-2701, fax: 785-271-2708.

Kentucky.

State Director, Rural Development, 771 Corporate Dr., Suite 200, Lexington, KY 40503, phone: 859-224-7300, fax: 859-224-7425.

Louisiana

State Director, Rural Development, 3727 Government Street, Alexandria, LA 71302, phone: 318-473-7811, fax: 318-473-7829.

Maine

State Director, Rural Development, 444 Stillwater Ave., Suite 2, P.O. Box 405, Bangor, ME 04402-0405, phone: 207-990-9160, fax: 207-990-9165.

Massachusetts

State Director, Rural Development, 451 West St., Amherst, MA 01002, phone: 413-253-4310, fax: 413-253-4347.

Michigan

State Director, Rural Development, 3001 Coolidge Road, Suite 200, East Lansing, MI 48823, phone: 616-745-8364, fax: 616-745-8493.

Minnesota

State Director, Rural Development, 410 Agriculture Bank Building, 375 Jackson Street, St. Paul, MN 55101-1853, phone: 651-602-7801, fax: 651-602-7824.

Mississippi

State Director, Rural Development, 100 W Capital St., Federal Building, Suite 831, Jackson, MS 39269, phone: 601-965-4318, fax: 601-965-5384.

Missouri

State Director, Rural Development, 601 Business Loop, Parkade Center, Suite 235 , Columbia, MO 65203, phone: 573-876-0976, fax: 573-876-0977.

Montana

State Director, Rural Development, 900 Technology Blvd. Suite B, P.O. Box 850, Bozeman, MT 59771, phone: 406-585-2580, fax: 406-585-2565.

Nebraska

State Director, Rural Development, Federal Building, Mail Room 152, 100 Centennial Mall N., Room 308, Lincoln, NE 68508, phone: 402-437-5550, fax: 402-437-5408.

Nevada

State Director, Rural Development, 1390 South Curry St., Carson City, NV 89703-9910, phone: 775-887-1222, fax: 775-885-0841.

New Hampshire/Vermont

State Director, Rural Development, City Center, 3rd Floor, 89 Main Street, Montpelier, VT 05602, phone: 802-828-6002, fax: 802-828-6018.

New Jersey

State Director, Rural Development, Tarnsfield Plaza, Suite 22, 790 Woodland Rd., Mt. Holly, NJ 08060, phone: 609-265-3600, fax: 609-265-3651.

New Mexico

State Director, Rural Development, 6200 Jefferson Street NE, Room 255, Albuquerque, NM 87109, phone: 505-761-4950, fax: 505-761-4976.

New York

State Director, Rural Development, The Galleries of Syracuse, 441 S. Salina Street, Suite 357, Syracuse, NY 13202-2541, phone: 315-477-6435, fax: 315-477-6438.

North Carolina

State Director, Rural Development, 4405 Bland Rd, Suite 260, Raleigh NC 27609, phone: 919-873-2037, fax: 919-873-2075.

North Dakota

State Director, Rural Development, P.O. Box 1737, Bismarck, ND 58502, phone: 701-530-2054, fax: 701-530-2108.

Ohio

State Director, Rural Development, Federal Building, Room 507, 200 North High Street, Columbus OH 43215-2418, phone: 614-255-2390, fax: 614-255-2559.

Oklahoma

State Director, Rural Development, 100 USDA, Suite 108, Stillwater, OK 74074-2654, phone: 405-742-1000, fax: 405-742-1005.

Oregon

State Director, Rural Development, 101 SW Main Street, Suite 1410, Portland, OR 97204-3222, phone: 503-414-3300, fax: 503-414-3386.

Pennsylvania

State Director, One Credit Union Place, Suite 330, Harrisburg, PA 17110-2996, phone: 717-334-8827, fax: 717-237-2191.

Puerto Rico

State Director, Rural Development, P.O. Box 366106, San Juan, PR 00936-6106, phone: 787-766-5095, fax: 787-766-5844.

South Carolina

State Director, Rural Development, Strom Thurmond Federal Building, 1835 Assembly Street, Room 1007, Columbia, SC 29201, phone: 803-765-5163, fax: 803-765-5633.

South Dakota

State Director, Rural Development, Federal Building, Room 210, 200 Fourth Street SW, Huron, SD 57350-2477, phone: 605-352-1100, fax: 605-352-1146.

Tennessee

State Director, Rural Development, 3322 West End Ave., Suite 300, Nashville, TN 37203-1084, phone: 615-783-1300, fax: 615-783-1301.

Texas

State Director, Rural Development, 101 S. Main Street, Suite 102, Temple, TX 76501, phone: 254-742-9710, fax: 254-742-9709.

Utah

State Director, Rural Development, Wallace F. Bennett Federal Bldg., Room 4311, Salt Lake City, UT 84147-0350, phone: 801-524-4320, fax: 801-524-4406.

Vermont/New Hampshire

State Director, Rural Development, City Center, 3rd Floor, 89 Main Street, Montpelier, VT 05602, phone: 802-828-6002, fax: 802-828-6018.

Virginia

State Director, Rural Development, Culpepper Building, Suite 238, 1606 Santa Rosa Road, Richmond, VA 23229, phone: 804-287-1552, fax: 804-287-1721.

Washington

State Director, Rural Development, 1835 Black Lake Blvd. SW, Suite B, Olympia, WA 98512, phone: 360-704-7715, fax: 360-704-7742.

Wisconsin

State Director, Rural Development, 4949 Kirschling Court, Stevens Point, WI 54481, phone: 715-345-7676, fax: 715-345-7669.

West Virginia

State Director, Rural Development, 75 High Street, Room 320, Morgantown, WV 26505, phone: 304-284-4860, fax: 304-284-4893.

Wyoming

State Director, Rural Development, 100 East B, Federal Bldg. Room 1005, Casper, WY 82602, phone: 307-261-6300, fax: 307-261-6327.

Appendix B

Notice of Intent to Participate

U.S. Department of Agriculture, Office of Community Development, Reporters Building, 300 Seventh Street, SW., Room 266, Washington, DC 20024.

Note: Rural entities may:

(1) fax this notice to (202) 260-6225;

(2) submit this notice via e-mail to “round3.rural@ocdx.usda.gov”; or

(3) submit it electronically via the following website: “http://www.ezec.gov/round3”.

This Notice of Intent to Participate in the Rural Empowerment Zone application process is submitted by the following participating entity:

Location of Nominated Area (list state and counties proposed to be included):

Name & Address of Participating Entity:

Contact & Phone Number, Fax Number and E-mail address:

Nominating Entity (check here if applicable).

Nominating Entity (if other than named above) (City, State):

Appendix C

Counties (including other geographic areas, as applicable) which have demonstrated outmigration of not less than 15 percent over the period 1980-1994 as reported by the U.S. Bureau of the Census.

Alabama

Conecuh County

Dallas County

Greene County

Lowndes County

Macon County

Perry County

Wilcox County

Alaska

Aleutians West Census Area

Bristol Bay Borough

Southeast Fairbanks Census Area

Wade Hampton Census Area

Yukon-Koyukuk Census Area

Arizona

Greenlee County

Arkansas

Arkansas County

Chicot County

Desha County

Lee County

Mississippi County

Monroe County

Phillips County

St. Francis County

Woodruff County

Colorado

Baca County

Conejos County

Jackson County

Kiowa County

Lake County

Logan County

Mineral County

Moffat County

Otero County

San Juan County

Sedgwick County

Washington County

Florida

Hardee County

Georgia

Calhoun County

Early County

Miller County

Randolph County

Terrell County

Turner County

Idaho

Bear Lake County

Butte County

Caribou County

Clark County

Clearwater County

Elmore County

Shoshone County

Illinois

Alexander County

Mason County

Pulaski County

Stark County

Warren County

Indiana

Miami County

Iowa

Adams County

Audubon County

Buchanan County

Cherokee County

Chickasaw County

Clay County

Clinton County

Crawford County

Emmet County

Fayette County

Floyd County

Franklin County

Greene County

Grundy County

Hancock County

Humboldt County

Jackson County

Kossuth County

Lyon County

Osceola County

Palo Alto County

Pocahontas County

Shelby County

Webster County

Kansas

Barber County

Barton County

Decatur County

Doniphan County

Geary County

Gove County

Graham County

Haskell County

Jewell County

Morton County

Ness County

Osborne County

Rawlins County

Rice County

Rooks County

Rush County

Scott County

Sheridan County

Sherman County

Stanton County

Trego County

Wallace County

Wichita County

Kentucky

Bell County

Breathitt County

Floyd County

Fulton County

Hardin County

Harlan County

Leslie County

Letcher County

Martin County

Perry County

Pike County

Louisiana

Cameron Parish

Catahoula Parish

Concordia Parish

East Carroll Parish

Iberville Parish

Madison Parish

Morehouse Parish

Red River Parish

Richland Parish

St. Mary Parish

Tensas Parish

Vernon Parish

Maine

Aroostook County

Michigan

Iosco County

Luce County

Marquette County

Minnesota

Big Stone County

Cottonwood County

Faribault County

Freeborn County

Jackson County

Kittson County

Lac qui Parle County

Lake County

Lincoln County

Pennington County

Red Lake County

Redwood County

Renville County

Swift County

Traverse County

Wilkin County

Yellow Medicine County

Mississippi

Adams County

Bolivar County

Claiborne County

Coahoma County

Holmes County

Humphreys County

Issaquena County

Jefferson County

Leflore County

Noxubee County

Quitman County

Sharkey County

Sunflower County

Tallahatchie County

Tunica County

Warren County

Washington County

Yazoo County

Missouri

Knox County

Mississippi County

Pemiscot County

Pulaski County

Montana

Big Horn County

Carter County

Daniels County

Dawson County

Deer Lodge County

Fallon County

Garfield County

Hill County

Judith Basin County

Liberty County

McCone County

Meagher County

Petroleum County

Pondera County

Powder River County

Prairie County

Richland County

Roosevelt County

Rosebud County

Sheridan County

Toole County

Treasure County

Valley County

Wibaux County

Nebraska

Antelope County

Arthur County

Banner County

Blaine County

Boone County

Box Butte County

Boyd County

Brown County

Cedar County

Cuming County

Frontier County

Garden County

Grant County

Hayes County

Hitchcock County

Holt County

Hooker County

Keya Paha County

Kimball County

Knox County

Lincoln County

Logan County

Loup County

Morrill County

Nuckolls County

Red Willow County

Rock County

Sioux County

Stanton County

Thomas County

Thurston County

Wheeler County

New Mexico

Cibola County

Guadalupe County

Harding County

Lea County

McKinley County

Union County

North Dakota

Adams County

Benson County

Billings County

Bottineau County

Bowman County

Burke County

Cavalier County

Dickey County

Divide County

Dunn County

Eddy County

Emmons County

Foster County

Golden Valley County

Grant County

Griggs County

Hettinger County

Kidder County

LaMoure County

Logan County

McHenry County

McIntosh County

McKenzie County

McLean County

Mercer County

Mountrail County

Oliver County

Pembina County

Pierce County

Renville County

Sargent County

Sheridan County

Sioux County

Slope County

Stark County

Steele County

Stutsman County

Towner County

Walsh County

Ward County

Wells County

Williams County

Oklahoma

Beaver County

Blaine County

Cimarron County

Ellis County

Harmon County

Harper County

Jackson County

Kingfisher County

Major County

Roger Mills County

Texas County

Tillman County

Washita County

Woods County

Woodward County

Oregon

Harney County

Sherman County

Pennsylvania

Cameron County

South Carolina

Bamberg County

Dillon County

Marlboro County

South Dakota

Buffalo County

Campbell County

Corson County

Day County

Deuel County

Dewey County

Douglas County

Edmunds County

Faulk County

Gregory County

Haakon County

Hand County

Hanson County

Harding County

Hyde County

Jackson County

Jerauld County

Jones County

Lyman County

McPherson County

Mellette County

Perkins County

Potter County

Roberts County

Sanborn County

Shannon County

Spink County

Sully County

Walworth County

Ziebach County

Texas

Andrews County

Bailey County

Briscoe County

Brooks County

Castro County

Cochran County

Collingsworth County

Cottle County

Crane County

Crockett County

Crosby County

Culberson County

Dawson County

Deaf Smith County

Dickens County

Dimmit County

Fisher County

Floyd County

Foard County

Garza County

Glasscock County

Gray County

Hale County

Hall County

Hansford County

Hardeman County

Hemphill County

Hutchinson County

Jim Hogg County

Karnes County

Kenedy County

Kent County

King County

Kleberg County

Lamb County

Lipscomb County

Lynn County

Matagorda County

Motley County

Ochiltree County

Parmer County

Pecos County

Reagan County

Reeves County

Refugio County

Roberts County

Shackelford County

Sherman County

Stonewall County

Sutton County

Swisher County

Terrell County

Terry County

Upton County

Ward County

Wheeler County

Winkler County

Yoakum County

Zavala County

Utah

Carbon County

Daggett County

Duchesne County

Emery County

Grand County

Rich County

San Juan County

Virginia

Alleghany County

Bath County

Buchanan County

Wise County

Covington City

Norton City

West Virginia

Boone County

Clay County

Fayette County

Logan County

McDowell County

Mingo County

Webster County

Wetzel County

Wyoming County

Wyoming

Big Horn County

Carbon County

Converse County

Fremont County

Hot Springs County

Platte County

Sweetwater County

Washakie County

Weston County

Appendix D

Form of Memorandum of Agreement

Rural Empowerment Zones

This Agreement among the United States Department of Agriculture (USDA), the State of _____ and the Empowerment Zone Lead Entity relating to the Rural Empowerment Zone known as _____, is made pursuant to the Internal Revenue Code (title 26 of the United States Code) as amended by The Community Renewal Tax Relief Act of 2000 (Pub. L. 106-554).

In reliance upon and in consideration of the mutual representations and obligations herein contained, the applicable statute and part 25 to 7 C.F.R., the State and the Empowerment Zone agree as follows:

The Rural Empowerment Zone boundaries are as follows: Census Tracts ___, ___, ___ [as such boundaries may be modified] in accordance with maps provided in the application for designation. The term of the designation as a rural Empowerment Zone is effective from [designation date] to December 31, ___, unless sooner revoked.

1. The State and the Empowerment Zone will comply with the requirements of The Community Renewal Tax Relief Act of 2000, and the regulations appearing in 7 C.F.R. part 25 and any future regulations.

2. The State and the Empowerment Zone will comply with such further statutory, regulatory and contractual requirements as may be applicable to the receipt and expenditure of Federal funds.

3. The State and the Empowerment Zone will comply with all elements of the USDA approved application for designation, including the strategic plan, submitted to USDA pursuant to 7 C.F.R. part 25 (“strategic plan”) and all assurances, certifications, schedules or other submissions made in support of the strategic plan or of this Agreement.

4. The State and the Empowerment Zone will submit with each 2-year workplan required under 7 C.F.R. 25.403 documentation, in form and substance satisfactory to the Secretary, sufficient to identify baselines, benchmark goals, benchmark activities and timetables for the implementation of the strategic plan during the applicable 2 years of the workplan.

5. Pursuant to the strategic plan, the lead entity for the Empowerment Zone known as ___ [name of lead entity] ___, located at ___ [address] ___, is responsible for the implementation of the strategic plan. The current director of the lead entity, who is duly authorized to execute this agreement, is ___ [name] ___.

6. The use of Federal funds will be directed by the lead entity, in accordance with the strategic plan. The distribution of these funds will be in accordance with the directives of the lead entity, provided that such actions are consistent with the USDA approved strategic plan.

7. The lead entity agrees to timely comply with the reporting requirements contained in 7 C.F.R. part 25, including reporting on progress made in carrying out actions necessary to implement the requirements of the strategic plan and any assurances, certifications, schedules or other submissions made in connection with the designation.

8. The lead entity agrees to submit to periodic performance reviews by USDA in accordance with the provisions of 7 C.F.R. 25.402 and 25.404. Upon request by USDA, the lead entity will permit representatives of USDA to inspect and make copies of any records pertaining to matters covered by this Agreement.

9. Each year after the execution of this Agreement, the lead entity will submit updated documentation sufficient to identify baselines, benchmark goals and activities and timetables for the implementation of the strategic plan during the following 2 years. Upon written acceptance from USDA, such documentation shall become part of this Agreement and shall replace the documentation submitted previously, for purposes of operations during the following 2 years.

10. All benchmark goals, benchmark activities, baselines, and schedules approved by the Empowerment Zone after a full community participation process (which must be documented and which may be further amended or supplemented from time to time), will be incorporated as part of this Agreement. All references to the strategic plan in this memorandum of agreement shall be deemed to refer to the strategic plan as modified in accordance with this paragraph.

11. This Agreement shall be a part of the strategic plan.

12. Amendments to the strategic plan may be made only with the approval of the Empowerment Zone and USDA. The lead entity must demonstrate to USDA that the local governments within the Empowerment Zone were involved in the amendment process.

13. All attachments and submissions in accordance herewith are incorporated as part of this agreement.

This Agreement is dated_.

State Government: State of _

By:_

[Official authorized to commit the state]

Title:

Address:

Empowerment Zone [Name of Empowerment Zone].

By:_

Title:

Address:

Lead entity: [Name of Lead entity].

By:

Title:

Address:

Federal Government: United States Department of Agriculture.

By:

Title:

Address:

[FR Doc. 01-14119 Filed 6-4-01; 8:45 am]

BILLING CODE 3410-07-P